CONSUMER PRODUCT SAFETY COMMISSION

Sunshine Act Meeting Notice

TIME AND DATE: Wednesday, May 2, 2018, 10:00 a.m.-12:00 p.m.

PLACE: Hearing Room 420, Bethesda Towers, 4330 East-West Highway, Bethesda, MD.

STATUS: Commission Meeting—Open to the Public.

Matters To Be Considered: Briefing Matter: Fiscal Year 2018 Mid-Year Review.

A live webcast of the Meeting can be viewed at https://www.cpsc.gov/live.

CONTACT PERSON FOR MORE INFORMATION: Rockelle Hammond, Office of the Secretariat, Office of the General Counsel, U.S. Consumer Product Safety Commission, 4330 East-West Highway, Bethesda, MD 20814, (301) 504-7923.

Dated: April 25, 2018.
Alberta E. Mills,
Secretary.

[FR Doc. 2018-09007 Filed 4-25-18; 11:15 am]

BILLING CODE 6355-01-P